ENVIRONMENTAL PROTECTION AGENCY

[EPA-HQ-OPP-2006-0368; FRL-8073-3]

Notice of Filing of a Pesticide Petition for Establishment of an Exemption from the Requirement of Tolerances for Residues of Acetic Acid Ethenyl Ester, Polymer with 1-Ethenyl-2-Pyrrolidinone in or on Various Food Commodities; Correction

AGENCY: Environmental Protection Agency (EPA).

ACTION: Notice; technical correction.

SUMMARY: EPA issued a notice in the Federal Register of May 31, 2006, concerning the initial filing of a pesticide petition proposing the establishment of an exemption from the requirement of tolerances for residues of poly (2-ethylhexyl acrylate/2-hydroxyethyl acrylate/N-(hydroxymethyl)-2-methylacrylamide/methacrylic acid/methyl methacrylate/styrene, ammonium salt in or on various food commodities. This document is being issued to correct the chemical name and the petitioner's name.

FOR FURTHER INFORMATION CONTACT: Bipin Gandhi, Registration Division (7505P), Office of Pesticide Programs, Environmental Protection Agency, 1200 Pennsylvania Ave., NW., Washington, DC 20460-0001; telephone number: (703) 308-8380; e-mail address: gandhi.bipin@epa.gov.

>

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Get Copies of this Document and Other Related Information?

1. Docket. EPA has established a docket for this action under docket identification (ID) number EPA-HQ-OPPT-2006-0368. Publicly available docket materials are available either in the electronic docket at http://www.regulations.gov, or, if only available in hard copy, at the Office of Pesticide Programs (OPP) Regulatory Public Docket in Rm. S-4400, One Potomac Yard (South Building), 2777 S. Crystal Drive, Arlington, VA. The hours of operation of the Docket Facility are from 8:30 a.m. to 4 p.m., Monday through Friday, excluding legal holidays. The Docket telephone number is (703) 305-5805.

2. Electronic access. You may access this Federal Register document electronically through the EPA Internet under the “Federal Register” listings at http://www.epa.gov/fedrgstr/.

II. What Does this Correction Do?

FR Doc. E6-8145 published in the Federal Register of May 31, 2006 (71 FR 30919) (FRL-8068-9) is corrected as follows:

1. On page 30919, in the third column, the heading should read as set forth at the beginning of this document.

2. On the same page, same column, under SUMMARY, in the fifth line, the chemical name “poly (2-ethylhexyl acrylate/2-hydroxyethyl acrylate/N-(hydroxymethyl)-2-methylacrylamide/methacrylic acid/methyl methacrylate/styrene, ammonium salt” should read “acetic acid ethenyl ester, polymer with 1-ethenyl-2-pyrrolidinone (or acetic acid vinyl ester, polymer with 1-vinyl -2-pyrrolidinone) (CAS Reg. No. 25086-89-9)”.

3. On page 30921, in the first column, under New Exemption for Tolerance, beginning in the first line, “E. I. DuPont de Nemours & Company, Inc. , 1007 Market St., Wilmington, DE 19898” should read “BASF Corporation, 100 Campus Drive, Florham Park, NJ 07932”.; and beginning in the sixth line, the chemical name “poly (2-ethylhexyl acrylate/2-hydroxyethyl acrylate/N-(hydroxymethyl)-2-methylacrylamide/methacrylic acid/methyl methacrylate/styrene, ammonium salt” should read “acetic acid ethenyl ester, polymer with 1-ethenyl-2-pyrrolidinone (or acetic acid vinyl ester, polymer with 1-vinyl -2-pyrrolidinone) (CAS Reg. No. 25086-89-9)”.

List of Subjects

Environmental protection, Agricultural commodities, Feed additives, Food Additives, Pesticides and pests, Reporting and recording keeping requirements.

Dated: June 16, 2006.
Lois Rossi,
Director, Registration Division, Office of Pesticide Programs.

[FR Doc. 06-5859 Filed 6-27-06; 8:45 am]

BILLING CODE 6560-50-S